DEPARTMENT OF ENERGY

Federal Energy Regulatory Commission

18 CFR Part 284

[Docket Nos. RM96-1-026 and RM96-1-015]

Standards for Business Practices of Interstate Natural Gas Pipelines

December 21, 2004.

AGENCY: Federal Energy Regulatory Commission.

ACTION: Notice of proposed rulemaking and termination order.

SUMMARY: The Federal Energy Regulatory Commission is proposing to amend in Docket No. RM96-1-026 its regulations governing standards for conducting business practices with interstate natural gas pipelines. The Commission is proposing to incorporate by reference the most recent version of the standards, Version 1.7, promulgated December 31, 2003, by the Wholesale Gas Quadrant (WGQ) of the North American Energy Standards Board (NAESB); the standards ratified by NAESB on June 25, 2004, to implement Order No. 2004, and the standards implementing gas quality reporting requirements ratified by NAESB on October 20, 2004. These standards can be obtained from NAESB at 1301 Fannin, Suite 2350, Houston, TX 77002, 713-356-0060, http://www.naesb.org. The Commission is also terminating a rulemaking, instituted by a Notice of Proposed Rulemaking in Docket No. RM96-1-015, issued on June 30, 2000, which examined whether the Commission should require pipelines to permit shippers to designate and rank the contracts under which gas flows on their systems.

DATES: Comments in Docket No. RM96-1-026 are due February 18, 2005.

ADDRESSES: Comments may be filed electronically via the eFiling link on the Commission's Web site at http://www.ferc.gov. Commenters unable to file comments electronically must send an original and 14 copies of their comments to: Federal Energy Regulatory Commission, Office of the Secretary, 888 First Street, NE., Washington, DC 20426. Refer to Comment Procedures Section of the preamble for additional information on how to file comments.

FOR FURTHER INFORMATION CONTACT:

Jamie Chabinsky, Office of the General Counsel, Federal Energy Regulatory Commission, 888 First Street, NE., Washington, DC 20426. 202-502-6040.

Marvin Rosenberg, Office of Markets, Tariffs, and Rates, Federal Energy Regulatory Commission, 888 First Street, NE., Washington, DC 20426. 202-502-8292.

Kay Morice, Office of Markets, Tariffs, and Rates, Federal Energy Regulatory Commission, 888 First Street, NE., Washington, DC 20426. 202-502-6507.

SUPPLEMENTARY INFORMATION: 1. The Federal Energy Regulatory Commission (Commission) proposes in Docket No. RM96-1-026 to amend § 284.12 of its open access regulations governing standards for conducting business practices and electronic communications with interstate natural gas pipelines. The Commission is proposing to adopt the most recent version, Version 1.7, of the consensus standards promulgated by the Wholesale Gas Quadrant (WGQ) of the North American Energy Standards Board (NAESB). The Commission is also proposing to adopt the standards ratified by NAESB on June 25, 2004, to implement Order No. 2004 ¹ and the standards to implement gas quality reporting requirements ratified by NAESB on October 20, 2004, in Recommendation R03035A, which NAESB intends to include in its next version of standards (Version 1.8). The proposed rule is intended to benefit the public by adopting the most recent and up-to-date standards governing business practices and electronic communication. The Commission is also terminating a rulemaking instituted by a Notice of Proposed Rulemaking issued in Docket No. RM96-1-015 on June 30, 2000 (65 FR 41885), which examined whether the Commission should require pipelines to permit shippers to designate and rank the contracts under which gas flows on their systems.

¹ Order No. 2004, 68 FR 69134 (Dec. 11, 2003), III FERC Stats. & Regs. Regulations Preambles ¶ 31,155 (Nov. 25, 2003); Order No. 2004-A, 69 FR 23562 (Apr. 29, 2004), III FERC Stats. & Regs. Regulations Preambles ¶ 31,161 (Apr. 16, 2004); Order No. 2004-B, 69 FR 48371 (Aug. 10, 2004) III FERC Stats. & Regs. Regulations and Preambles ¶ 31,166 (Aug. 2, 2004).

Background

2. Since 1996, in the Order No. 587 series,² the Commission has adopted regulations to standardize the business practices and communication methodologies of interstate pipelines in order to create a more integrated and efficient pipeline grid. In this series of orders, the Commission incorporated by reference consensus standards developed by the WGQ (formerly the Gas Industry Standards Board or GISB), a private consensus standards developer composed of members from all segments of the natural gas industry.

² Standards For Business Practices Of Interstate Natural Gas Pipelines, Order No. 587, 61 FR 39053 (July 26, 1996), FERC Stats. & Regs. Regulations Preambles [July 1996-December 2000] ¶ 31,038 (July 17, 1996), Order No. 587-B, 62 FR 5521 (Feb. 6, 1997), FERC Stats. & Regs. Regulations Preambles [July 1996-December 2000] ¶ 31,046 (Jan. 30, 1997), Order No. 587-C, 62 FR 10684 (Mar. 10, 1997), FERC Stats. & Regs. Regulations Preambles [July 1996-December 2000] ¶ 31,050 (Mar. 4, 1997), Order No. 587-G, 63 FR 20072 (Apr. 23, 1998), FERC Stats. & Regs. Regulations Preambles [July 1996-December 2000] ¶ 31,062 (Apr. 16, 1998), Order No. 587-H, 63 FR 39509 (July 23, 1998), FERC Stats. & Regs. Regulations Preambles [July 1996-December 2000] ¶ 31,063 (July 15, 1998); Order No. 587-I, 63 FR 53565 (Oct. 6, 1998), FERC Stats. & Regs. Regulations Preambles [July 1996-December 2000] ¶ 31,067 (Sept. 29, 1998), Order No. 587-K, 64 FR 17276 (Apr. 9, 1999), FERC Stats. & Regs. Regulations Preambles [July 1996-December 2000] ¶ 31,072 (Apr. 2, 1999); Order No. 587-M, 65 FR 77285 (Dec. 11, 2000), FERC Stats. & Regs. Regulations Preambles [July 1996-December 2000] ¶ 31,114 (Dec. 11, 2000); Order No. 587-N, 67 FR 11906 (Mar. 18, 2002), III FERC Stats. & Regs. Regulations Preambles ¶ 31,125 (Mar. 11, 2002), Order No. 587-O, 67 FR 30788 (May 8, 2002), III FERC Stats. & Regs. Regulations Preambles ¶ 31,129 (May 1, 2002); Order No. 587-R, 68 FR 13813 (Mar. 21, 2003), III FERC Stats. & Regs. Regulations Preambles ¶ 31,141 (Mar. 12, 2003).

3. NAESB is an accredited standards organization under the auspices of the American National Standards Institute (ANSI).

4. On April 14, 2004 NAESB filed with the Commission a report informing the Commission that the WGQ had adopted a new version of its standards, Version 1.7. NAESB reports that Version 1.7 includes standards for partial day recalls which were requested in Order No. 587-N. The Commission previously incorporated these standards by reference in Order No. 587-R.³ Version 1.7 also contains ten standards regarding creditworthiness ⁴ which the Commission proposed to adopt in a Notice of Proposed Rulemaking (NOPR) in Docket No. RM04-4-000.⁵ Version 1.7 contains revisions that more accurately reflect the workings of the market including the definition of transaction types, charge types, Service Codes, and Reduction Reason Codes. Other revisions update standards that contained outmoded references, make the naming conventions more uniform, and permit use of proprietary entity codes when D-U-N-S® numbers are not available. In addition, the Version 1.7 standards update the treatment of allocations as well as requests for information on scheduled quantities, allocations, and shipper imbalances. Finally, NAESB reports that the WGQ continues work on requests for new and revised business practices, information requirements, code value assignments, technical implementation and mapping or interpretations.

³ Order No. 587-R, 68 FR 13813 (Mar. 21, 2003), III FERC Stats. & Regs. Regulations Preambles ¶ 31,141 (Mar. 12, 2003).

⁴ Standards 0.3.3 through 0.3.10, 5.3.59 and 5.3.60.

⁵ Creditworthiness Standards for Interstate Natural Gas Pipeline, Notice of Proposed Rulemaking (NOPR), 69 FR 8587 (Feb. 25, 2004), IV FERC Stats. & Regs. Proposed Regulations ¶ 32,573 (Feb. 12, 2004).

5. On August 6, 2004, NAESB filed with the Commission a report informing the Commission that on June 25, 2004 the WGQ membership ratified a package of modifications to the Version 1.7 standards to implement Order No. 2004 (2004 Annual Plan Item 2 FERC Order 2004).⁶ These standards modify the Informational Posting requirements for pipeline Web sites to reflect the information required to be posted pursuant to Order No. 2004 and will be included as part of Version 1.8.

⁶ The standards ratified June 25, 2004 modified Definition 4.2.1 and Standards 4.3.16, 4.3.18, 4.3.22, 4.3.23, 4.3.25 and deleted Standards 4.3.6, 4.3.19, 4.3.21 and 4.3.63. They added Principle 0.1.z1 and deleted Principle 4.1.25.

6. On October 1, 2004, NAESB filed a report with the Commission informing the Commission that errata to Version 1.7 of the NAESB WGQ standards were adopted by the Executive Committee on August 26, 2004 and, following a member comment period, the errata would be applied to Version 1.7 on October 15, 2004. The errata contain minor corrections which remove the table of code values for Bidder Affiliate from Standard 5.4.13 and correct the Transaction Status Code data element in the Code Values Dictionary of Standard 1.4.2.

7. On November 1, 2004, NAESB filed a report with the Commission informing the Commission that on October 20, 2004 the WGQ membership ratified standards to implement gas quality reporting requirements (Recommendation R03035A).⁷ These standards require a pipeline to provide a link on its Informational Posting Web Site to its gas quality tariff provisions, or a simple reference guide to such information. In addition, a pipeline is required to provide on its Informational Postings Web site, in a downloadable format, daily average gas quality information for prior day(s) to the extent available for locations(s) that are representative of mainline gas flow for the most recent three-month period.

⁷ The standards ratified October 20, 2004 modified Standard 4.3.23 and added Principle 4.1.p1 and Standards 4.3.s1, 4.3.s2, 4.3.s3, and 4.3.s4.

Discussion

8. The Commission is proposing to adopt Version 1.7 of the NAESB WGQ's consensus standards;⁸ the standards to implement Order No. 2004 ratified by NAESB on June 25, 2004 (2004 Annual Plan Item 2 FERC Order 2004); and the standards governing gas quality reporting ratified by NAESB on October 20, 2004 (Recommendation R03035A).⁹ Pipelines would be required to implement the standards three months after a final rule is issued. Because the Version 1.7 standards include the partial day recall standards adopted by the Commission in Order No. 587-R, separate reference to these standards is no longer necessary and is proposed to be removed.

⁸ In Version 1.7 of its standards, the NAESB WGQ added a new implementation guide entitled “Additional Standards,” which contains general or topic specific standards. Previously these standards were included in each of five original implementation guides: Nominations, Flowing Gas, Invoicing, Electronic Delivery Mechanism, and Capacity Release.

⁹ Pursuant to the regulations regarding incorporation by reference, copies of Version 1.7 are available from NAESB. 5 U.S.C. 552 (a)(1); 1 CFR 51 (2001).

9. Adoption of Version 1.7¹⁰ of the NAESB WGQ standards will help continue the process of updating and improving the current standards. In adopting the Version 1.7 standards, the Commission is proposing to adopt the new “Additional Standards” implementation guide that contains standards generally applicable to all the business processes. This section includes the creditworthiness standards that have already been noticed for comment in Docket No. RM04-4-000. The Commission will address the comments filed on these standards prior to issuing a final rule, and, therefore, there is no need to file comments on these standards in this proceeding. The Additional Standards also include standards governing the use of common codes to identify entities in transactions.

¹⁰ In Version 1.7 the NAESB WGQ made the following changes to its standards, excluding the creditworthiness standards. It revised Standards 1.3.32, 2.3.21, 4.3.1, 4.3.2, 5.3.2, 5.3.7, 5.3.41, and 5.3.42, and Datasets 1.4.1 through 1.4.7, 2.4.1 through 2.4.16, 3.4.1 through 3.4.4, and 5.4.1 through 5.4.22. It added Principles 1.1.22, 2.1.6, 5.1.2, 5.1.3, and 5.1.4, Definitions 2.2.4, 2.2.5 and 5.2.3, and Standards 0.3.2, 2.3.51 through 2.3.64, and 5.3.44 through 5.3.58. It deleted Principles 1.1.6, 1.1.8, 1.1.19, and 4.1.14, and Standards 1.3.78, 2.3.24, 2.3.36 through 2.3.39, and 5.3.6.

10. The NAESB standards with respect to the Order No. 2004 affiliate standards establish uniform posting requirements for the Commission requirements. The NAESB standards, however, were developed prior to the issuance of Order No. 2004-A, and Revised Standard 4.3.23 does not specify a location for posting voluntary consent to information disclosure by non-affiliated customers as required by § 358 of the Commission regulations.¹¹ Electric utilities and pipelines have been posting this information as a separate category from other non-discrimination requirements.¹² Posting this information as a separate category represents a better practice, since it will make it easier for the Commission as well as other parties to find and access this information, and the Commission expects all electric utilities and pipelines to follow this practice. Since requiring a separate posting is not inconsistent with the NAESB standard, the Commission is proposing to incorporate the NAESB standard by reference. We expect that in future versions of its standards, NAESB will reflect such a requirement.

¹¹ 18 CFR 358.5(b)(4). It may be that this information is intended to be posted under the “Non-discrimination Rqmts.” category, but there is no specific subcategory dealing with voluntary consent information.

¹² See Cinergy Oasis, http://oasis.midwestiso.org/OASIS/CIN; National Grid Oasis Log, http://www.nationalgridus.com/OASIS/keydocs.asp; Entergy FERC Order No. 2004 Standards of Conduct, http://oasis.e-terrasolutions.com/documents/EES/Order_2004_Standards_of_Conduct.htm; Peco FERC Standards of Conduct, http://oasis.peco.com; ANR Pipeline Co., http://tebb.elpaso.com/ebbANR/ebbmain.asp?sPipelineCode=ANR; Blue Lake Gas Storage Company, http://www.gasnom.com/ip/bluelake/; Transcontinental Gas Pipe Line Corp., http://www.1line.williams.com/Files/Transco/TranscoInfoPostingFrameset.html; CenterPoint Energy Gas Transmission Company, http://pipelines.centerpointenergy.com/ebb-main-ngt.html.

11. The Commission recognizes that the NAESB Wholesale Electric Quadrant is also working on posting standards, and NAESB should ensure that the standards relating to Order No. 2004 postings are as similar as possible across the industries. This will ensure that locating information is as seamless as possible for the Commission and common users of these Web sites.

12. The Commission is also proposing to adopt the NAESB standards related to gas quality in WGQ Recommendation R03035A. These standards require a pipeline to provide a link on its Informational Posting Web site to its gas quality tariff provisions, or a simple reference guide to such information. In addition, a pipeline is required to provide on its Informational Postings Web site, in a downloadable format, daily average gas quality information for prior day(s) to the extent available for locations(s) that are representative of mainline gas flow for the most recent three-month period. Adoption of these standards will provide greater transparency to shippers with respect to the gas quality requirements of interstate pipelines and available information on gas quality on such pipelines' systems.

13. The NAESB WGQ approved the standards under NAESB's consensus procedures.¹³ As the Commission found in Order No. 587, adoption of consensus standards is appropriate because the consensus process helps ensure the reasonableness of the standards by requiring that the standards draw support from a broad spectrum of all segments of the industry. Moreover, since the industry itself has to conduct business under these standards, the Commission's regulations should reflect those standards that have the widest possible support. In section 12(d) of the National Technology Transfer and Advancement Act of 1995 (NTT&AA), Congress affirmatively requires federal agencies to use technical standards developed by voluntary consensus standards organizations, like NAESB, as means to carry out policy objectives or activities.¹⁴

¹³ This process first requires a super-majority vote of 17 out of 25 members of the WGQ's Executive Committee with support from at least two members from each of the five industry segments—interstate pipelines, local distribution companies, gas producers, end-users, and services (including marketers and computer service providers). For final approval, 67% of the WGQ's general membership must ratify the standards.

¹⁴ Pub L. 104-113, “ 12(d), 110 Stat. 775 (1996), 15 U.S.C. 272 note (1997).

14. Additionally, the Commission is terminating a separate rulemaking (proposed in Docket No. RM96-1-015). On June 30, 2000, the Commission issued a NOPR proposing, along with other matters, to adopt a regulation requiring pipelines to permit shippers to designate and rank the transportation contracts under which gas will flow on the pipeline's system.¹⁵ The WGQ standards currently require pipelines to use shipper “rankings when making reductions during the scheduling process” (Standard 1.3.23), but the WGQ could not reach consensus on a standard for cross-contract ranking that would apply to all three pipeline scheduling models. The comments and the information provided during the technical conference did not reveal a method of accomplishing cross-contract ranking that would provide improved and more consistent results than the current standards. Accordingly, the Commission is terminating the rulemaking in Docket No. RM96-1-015.

¹⁵ Standards For Business Practices Of Interstate Natural Gas Pipelines, Notice of Proposed Rulemaking, 65 FR 41885 (July 7, 2000), IV FERC Stats. & Regs. Proposed Regulations ¶ 32,552 (June 30, 2000). The Commission has issued a final rule regarding the other proposed regulatory changes in the NOPR. Standards For Business Practices Of Interstate Natural Gas Pipelines, Order No. 587-M, 65 FR 77285 (Dec. 11, 2000), FERC Stats. & Regs. Regulations Preambles [July 1996-December 2000] ¶ 31,114 (Nov. 30, 2000).

Notice of Use of Voluntary Consensus Standards

15. Office of Management and Budget Circular A-119 (§ 11) (February 10, 1998) provides that Federal Agencies should publish a request for comment in a NOPR when the agency is seeking to issue or revise a regulation proposing to adopt a voluntary consensus standard or a government-unique standard. In this NOPR, the Commission is proposing to incorporate by reference voluntary consensus standards developed by the WGQ.

Information Collection Statement

16. The following collections of information contained in this proposed rule have been submitted to the Office of Management and Budget (OMB) for review under Section 3507(d) of the Paperwork Reduction Act of 1995, 44 U.S.C. 3507(d). The Commission solicits comments on the Commission's need for this information, whether the information will have practical utility, the accuracy of the provided burden estimates, ways to enhance the quality, utility, and clarity of the information to be collected, and any suggested methods for minimizing respondents' burden, including the use of automated information techniques. The following burden estimate includes the costs to implement the NAESB WGQ's Version 1.7 standards as modified by the standards ratified by NAESB on June 25, 2004 and October 20, 2004, which incorporate the most recent and up-to-date standards governing electronic communication. The burden estimates are primarily related to start-up to implement the latest version of the standards and will not result in on-going costs.

Data collection | Number of respondents | Number of responses per respondent | Hours per response | Total Number of hours
FERC-545 | 93 | 1 | 38 | 3,534
FERC-549C | 93 | 1 | 2,614 | 243,102

Total Annual Hours for Collection (Reporting and Recordkeeping, (if appropriate)) = 246,636.

17. Information Collection Costs: The Commission seeks comments on the costs to comply with these requirements. It has projected the average annualized cost for all respondents to be the following:

| FERC-549C | FERC-545
Annualized Capital/Startup Costs | $12,691,327 | $184,495
Annualized Costs (Operations & Maintenance) | 0 | 0
Total Annualized Costs | 12,691,327 | 184,495

Total Cost for all Respondents = $12,875,722.

18. OMB regulations ¹⁶ require OMB to approve certain information collection requirements imposed by agency rule. The Commission is submitting notification of this proposed rule to OMB.

¹⁶ 5 CFR 1320.11.

Title: FERC-545, Gas Pipeline Rates: Rates Change (Non-Formal); FERC-549C, Standards for Business Practices of Interstate Natural Gas Pipelines.

Action: Proposed collections.

OMB Control Nos.: 1902-0154, 1902-0174.

Respondents: Business or other for profit, (Interstate natural gas pipelines (Not applicable to small business)).

Frequency of Responses: One-time implementation (business procedures, capital/start-up).

Necessity of Information: This proposed rule, if implemented, would upgrade the Commission's current business practice and communication standards to the latest edition approved by the NAESB WGQ (Version 1.7). The implementation of these standards is necessary to increase the efficiency of the pipeline grid and is consistent with the mandate that agencies provide for electronic disclosure of information.¹⁷

¹⁷ 44 U.S.C. 3504 note, Pub. L. 105-277, 1701, 112 Stat. 2681-749 (1998).

19. The information collection requirements of this proposed rule will be reported directly to the industry users. The implementation of these data requirements will help the Commission carry out its responsibilities under the Natural Gas Act to monitor activities of the natural gas industry to ensure its competitiveness and to assure the improved efficiency of the industry's operations. The Commission's Office of Markets, Tariffs and Rates will use the data in rate proceedings to review rate and tariff changes by natural gas companies for the transportation of gas, for general industry oversight, and to supplement the documentation used during the Commission's audit process.

20. Internal Review: The Commission has reviewed the requirements pertaining to business practices and electronic communication with natural gas interstate pipelines and made a determination that the proposed revisions are necessary to establish a more efficient and integrated pipeline grid. Requiring such information ensures both a common means of communication and common business practices which provide participants engaged in transactions with interstate pipelines with timely information and uniform business procedures across multiple pipelines. These requirements conform to the Commission's plan for efficient information collection, communication, and management within the natural gas industry. The Commission has assured itself, by means of its internal review, that there is specific, objective support for the burden estimates associated with the information requirements.

21. Interested persons may obtain information on the reporting requirements by contacting the following: Federal Energy Regulatory Commission, 888 First Street, NE., Washington, DC 20426. (Attention: Michael Miller, Office of the Chief Information Officer, phone: (202) 502-8415, fax: (202) 273-0873 e-mail: michael.miller@ferc.gov.)

22. Comments concerning the collection of information(s) and the associated burden estimate(s), should be sent to the contact listed above and to the Office of Management and Budget, Office of Information and Regulatory Affairs, Washington, DC 20503 (Attention: Desk Officer for the Federal Energy Regulatory Commission, phone: (202) 395-7856, fax: (202) 395-7285).

Environmental Analysis

23. The Commission is required to prepare an Environmental Assessment or an Environmental Impact Statement for any action that may have a significant adverse effect on the human environment.¹⁸ The Commission has categorically excluded certain actions from these requirements as not having a significant effect on the human environment.¹⁹ The actions proposed here fall within categorical exclusions in the Commission's regulations for rules that are clarifying, corrective, or procedural, for information gathering, analysis, and dissemination, and for sales, exchange, and transportation of natural gas that requires no construction of facilities.²⁰ Therefore, an environmental assessment is unnecessary and has not been prepared in this NOPR.

¹⁸ Order No. 486, Regulations Implementing the National Environmental Policy Act, 52 FR 47897 (Dec. 17, 1987), FERC Stats. & Regs. Regulations Preambles 1986-1990 ¶ 30,783 (1987).

¹⁹ 18 CFR 380.4 (2004).

²⁰ See 18 CFR 380.4(a)(2)(ii), 380.4(a)(5), 380.4(a)(27) (2004).

Regulatory Flexibility Act Certification

24. The Regulatory Flexibility Act of 1980 (RFA)²¹ generally requires a description and analysis of final rules that will have significant economic impact on a substantial number of small entities. The regulations proposed here impose requirements only on interstate pipelines, the majority of which are not small businesses, and would not have a significant economic impact. These requirements are, in fact, designed to benefit all customers, including small businesses. Accordingly, pursuant to section 605(b) of the RFA, the Commission hereby certifies that the regulations proposed herein will not have a significant adverse impact on a substantial number of small entities.

²¹ 5 U.S.C. 601-612 (2000).

Comment Procedures

25. The Commission invites interested persons to submit written comments on the matters and issues proposed in this notice to be adopted, including any related matters or alternative proposals that commenters may wish to discuss.²² Comments are due February 18, 2005. Comments must refer to Docket No. RM96-1-026, and must include the commenter's name, the organization they represent, if applicable, and their address. Comments may be filed either in electronic or paper format.

²² Commenters may request their comments in Docket No. RM04-4-000 to be incorporated by reference into this docket.

26. Comments may be filed electronically via the eFiling link on the Commission's Web site at http://www.ferc.gov. The Commission accepts most standard word processing formats and commenters may attach additional files with supporting information in certain other file formats. Commenters filing electronically do not need to make a paper filing. Commenters that are not able to file comments electronically must send an original and 14 copies of their comments to: Federal Energy Regulatory Commission, Office of the Secretary, 888 First Street, NE., Washington, DC 20426. For paper filings, the original and 14 copies of such comments should be submitted to the Office of the Secretary, Federal Energy Regulatory Commission, 888 First Street, NE., Washington, DC 20426.

27. All comments will be placed in the Commission's public files and may be viewed, printed, or downloaded remotely as described in the Document Availability section below. Commenters on this proposal are not required to serve copies of their comments on other commenters.

Document Availability

28. In addition to publishing the full text of this document in the Federal Register, the Commission provides all interested persons an opportunity to view and/or print the contents of this document via the Internet through FERC's home page (http://www.ferc.gov) and in FERC's Public Reference Room during normal business hours (8:30 a.m. to 5 p.m. eastern time) at 888 First Street, NE., Room 2A, Washington, DC 20426.

29. From FERC's home page on the Internet, this information is available in eLibrary. The full text of this document is available in eLibrary both in PDF and Microsoft Word format for viewing, printing, and/or downloading. To access this document in eLibrary, type the docket number excluding the last three digits of this document in the docket number field.

30. User assistance is available for eLibrary and the FERC's Web site during our normal business hours. For assistance contact FERC Online Support at FERCOnlineSupport@ferc.gov or toll-free at (866) 208-3676, or for TTY, contact (202) 502-8659.

List of Subjects in 18 CFR Part 284

Continental shelf, Incorporation by reference, Natural gas, Reporting and recordkeeping requirements.

By direction of the Commission.
Linda Mitry,
Deputy Secretary.

In consideration of the foregoing, the Commission proposes to amend part 284, Chapter I, Title 18, Code of Federal Regulations, as follows:

PART 284—CERTAIN SALES AND TRANSPORTATION OF NATURAL GAS UNDER THE NATURAL GAS POLICY ACT OF 1978 AND RELATED AUTHORITIES

1. The authority citation for part 284 continues to read as follows:

Authority: 15 U.S.C. 717-717w, 3301-3432; 42 U.S.C. 7101-7352; 43 U.S.C. 1331-1356.

2. Section 284.12 is amended by revising paragraphs (a)(1)(i) through (v) and adding a new paragraph (a)(1)(vi) to read as follows:

§ 284.12 Standards for pipeline business operations and communications.

(a) * * *

(1) * * *

(i) Additional Standards (General Standards and Creditworthiness Standards) (Version 1.7, December 31, 2003);

(ii) Nominations Related Standards (Version 1.7, December 31, 2003, including errata, October 15, 2004);

(iii) Flowing Gas Related Standards (Version 1.7, December 31, 2003);

(iv) Invoicing Related Standards (Version 1.7, December 31, 2003);

(v) Electronic Delivery Mechanism Related Standards (Version 1.7, December 31, 2003) with the exception of Standard 4.3.4, and including the standards contained in 2004 Annual Plan Item 2 (June 25, 2004) (Order No. 2004 standards), and the standards contained in Recommendation R03035A (October 20, 2004) gas quality reporting; and

(vi) Capacity Release Related Standards (Version 1.7, December 31, 2003, including errata, October 15, 2004).

* * * * *

[FR Doc. 05-17 Filed 1-3-05; 8:45 am]

BILLING CODE 6717-01-P